DEPARTMENT OF AGRICULTURE

Food Safety and Inspection Service

[Docket No. 03-047N]

Codex Alimentarius Commission: 36th Session of the Codex Committee on Food Additives and Contaminants

AGENCY: Food Safety and Inspection Service, USDA.

ACTION: Notice of public meeting and request for comments.

SUMMARY: The Office of the Under Secretary for Food Safety, United States Department of Agriculture, and the Food and Drug Administration (FDA), Department of Health and Human Services, are sponsoring a public meeting on February 9, 2004, to provide information and receive public comments on agenda items that will be discussed at the meeting of the Codex Committee on Food Additives and Contaminants (CCFAC), which will be held in Rotterdam, the Netherlands, on March 22-26, 2004. The Under Secretary and FDA recognize the importance of providing interested parties the opportunity to obtain background information on the Thirty-sixth Session of the Additives and Contaminants Committee of the Codex Alimentarius Commission (Codex) and to address items on the Agenda for the 36th CCFAC.

DATES: The public meeting is scheduled for Monday, February 9, 2004 from 1 p.m. to 4 p.m.

ADDRESSES: The public meeting will be held in the Auditorium, Harvey W. Wiley Federal Building, 5100 Paint Branch Parkway, College Park, Maryland. To receive copies of the documents referenced in the notice contact the FSIS Docket Clerk, U.S. Department of Agriculture, Food Safety and Inspection Service, Room 102, Cotton Annex, 300 12th Street SW., Washington, DC 20250-3700. The documents will also be accessible via the World Wide Web at the following address: http://www.codexalimentarius.net/current.asp. If you have comments, please send an original and two copies to the FSIS Docket Clerk and reference the Docket #03-047N. All comments submitted will be available for public inspection in the Docket Clerk's Office between 8:30 a.m. and 4:30 p.m., Monday through Friday.

FOR FURTHER INFORMATION CONTACT: Contact Ellen Matten, U.S. Codex Office, Food Safety and Inspection Service, Room 4861, South Building, 1400 Independence Avenue, SW., Washington, DC 20250, Phone: (202) 205-7760, Fax: (202) 720-3157. Attendees are requested to pre-register as soon as possible by e-mail to (e-mail address: ccfac@cfsan.fda.gov).

SUPPLEMENTARY INFORMATION:

Background

Codex was established in 1962 by two United States organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency manage and carry out U.S. Codex activities.

The Codex Committee on Food Additives and Contaminants establishes or endorses maximum or guideline levels for individual food additives, for contaminants (including environmental contaminants) and for naturally occurring toxicants in foodstuffs and animal fees. In addition the Committee prepares priority lists of food additives and contaminants for toxicological evaluation by the Joint FAO/WHO Expert Committee on Food Additives; recommends specifications of identity and purity for food additives for adoption by the Commission; considers methods of analysis for the determination of food additives and contaminants in food; and considers and elaborates standards or codes for related subjects such as the labeling of food additives when sold as such, and food irradiation. The Committee is chaired by The Netherlands.

Issues To Be Discussed at the Public Meeting

Items on the Provisional Agenda of the 36th Session of CCFAC to be discussed during the public meeting:

Matters referred/of Interest to the Committee arising from the Codex Alimentarius Commission and other Codex Committees 61st Meeting of the Joint FAO/WHO Expert Committee on Food Additives (JECFA)

(a) Summary Report

(b) Action Required as a Result of Changes in the Acceptable Daily Intake (ADI) Status and other Toxicological Recommendations

Draft Risk Assessment Principles applied by the Codex Committee on Food Additives and Contaminants

Food Additives

Endorsement and/or Revision of Maximum Levels for Food Additives in Codex Standards

Consideration of the Codex General Standard for Food Additives (GSFA)

(a) Report of the ad hoc Working Group on the Codex General Standard for Food Additives

(b) Proposed draft revised Preamble of the Codex General Standard for Food Additives

(c) Draft Food Category System of the Codex General Standard for Food Additives

(d) Proposed draft and draft Revisions to Table 1 of the Codex General Standard for Food additives

(i) Report of the GSFA Quality Control Working Group

Discussion Paper on Realistic Approaches and Recommendations on the Consideration of Processing Aids and Carriers

Proposed draft Code of Practice on the Safe Use of Active Chlorine

Specifications for the Identity and Purity of Food Additives

(a) Specifications for the Identity and Purity of Food Additives arising from the 61st JECFA Meeting

(b) Report of the ad hoc Working Group on Specifications

International Numbering System (INS) for Food Additives

(a) Proposals for amendments to the International Numbering System for Food Additives

(b) Report of the Working Group on International Numbering System

(c) Discussion Paper on the Harmonization of Terms Used in Codex Food Additive Class Names and in the International Numbering System for Food Additives with those used by the Joint FAO/WHO Expert Committee on Food Additives

Contaminants

Endorsement and/or Revision of Maximum Levels for Contaminants in Codex Standards

Consideration of the Codex General Standard for Contaminants and Toxins in Foods (GSCT)

(a) Report of the ad hoc Working Group on Contaminants and Toxins

(b) Schedule 1 of the Proposed Draft Codex General Standard for Contaminants and Toxins in Foods

(c) Draft Principles for Exposure Assessment of Contaminants and Toxins in Foods

Mycotoxins in Food and Feed

(a) Maximum Level for Patulin in Apple Juice and Apple Juice Ingredients in Other Beverages—New data submitted

(b) Draft Code of Practice for the Prevention and Reduction of Aflatoxin

(c) Draft Code of Practice for the Prevention and Reduction of Aflatoxin

(d) Discussion Paper on Aflatoxins in Tree Nuts (other than almonds, hazelnuts and pistachios), including information submitted on Aflatoxin Contamination and Methods of Analysis for the Determination of Alfatoxin in Tree Nuts

(e) Maximum Levels for Aflatoxins in Tree Nuts (almonds, hazelnuts and pistachios)—comments

(f) Draft Maximum Levels for Ochratoxin A in Raw Wheat, Barley and Rye and Derived Products

(g) Proposals for Maximum Levels for Deoxynivalenol

(h) Mycotoxin Contamination in Sorghum—Comments

Industrial and Environmental Contaminants in Foods

(a) Draft Maximum Levels for Lead in Fish

(b) Draft Code of Practice for the Prevention and Reduction of Lead in Food

(c) Proposed draft Maximum Levels for Tin

(d) Proposed draft Code of Practice for the Prevention and Reduction of Tin Contamination in Foods

(e) Proposed draft Maximum Levels for Cadmium

(f) Proposed draft Code of Practice for Source Directed Measures to Reduce Dioxin and Dioxin Like PCB Contamination of Foods

(g) Position paper on Dioxins and Dioxin-like PCBs

(h) Position paper on Chloropropanols

(i) Discussion Paper on Acrylamide

Proposed draft revised Guideline Levels for Radionuclides in Foods Following Accidental Nuclear Contamination for Use in International Trade (CAC/GL 5-1989), including Guideline Levels for Radionuclides for Long-Term Use

General Issues

Priority List of Food Additives, Contaminants and Naturally Occurring Toxicants Proposed for evaluation by JECFA

(a) Comments

(b) Report of the Working Group on the Priority List

Other Business and Future Work

Each issue listed will be fully described in documents distributed, or to be distributed, by The Netherlands' Secretariat to the Meeting. Members of the public may access or request copies of these documents (see ADDRESSES).

Public Meeting

At the February 9, 2004 public meeting, the agenda items will be described, discussed, and attendees will have the opportunity to pose questions and offer comments. Comments may be sent to the FSIS Dock Room (see ADDRESSES). Written comments should state that they relate to activities of the 36th CCFAC (docket #03-047N).

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC, on January 29, 2004.
F. Edward Scarbrough,
U.S. Manager for Codex Alimentarius.

[FR Doc. 04-2135 Filed 2-2-04; 8:45 am]

BILLING CODE 3410-DM-M